DEPARTMENT OF AGRICULTURE

Submission for OMB Review; Comment Request

April 18, 2022.

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by May 23, 2022 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number, and the agency informs potential persons who are to respond to the collection of information that such persons are not required to respond to the collection of information unless it displays a currently valid OMB control number.

Animal and Plant Health Inspection Service

Title: Importation of Swine Hides, Bird Trophies, and Deer Hides.

OMB Control Number: 0579-0307.

Summary of Collection: The Animal Health Protection Act (AHPA) of 2002 is the primary Federal law governing the protection of animal health. The law gives the Secretary of Agriculture broad authority to detect, control, or eradicate pests or diseases of livestock or poultry. The AHPA is contained in Title X, Subtitle E, Sections 10401-18 of Public Law 107-171, May 13, 2002, the Farm Security and Rural Investment Act of 2002. The Animal and Plant Health Inspection Service (APHIS) protects the health of the U.S. livestock and poultry population. The regulations in 9 CFR parts 94 and 95 (referred to below as the regulations) prohibit or restrict the importation of specified animal products into the United States to prevent the introduction into the U.S. livestock population of certain contagious animal diseases. Sections 95.16 and 95.17 of the regulations contain, among other things, specific processing and certification requirements for untanned hides and skins and bird trophies.

Need and Use of the Information: APHIS will collect information from forms VS 16-28, VS 16-29 and VS 16-78, certificates, and written statements, to ensure that bird trophies and certain animal hides pose a negligible risk of introducing certain contagious, infectious, or communicable animal diseases into the United States. If this information is not collected, it would significantly hinder APHIS's ability to ensure that these commodities pose a minimal risk of introducing foreign animal diseases into the United States.

Description of Respondents: Foreign Government; Business or other for-profit.

Number of Respondents: 167.

Frequency of Responses: Reporting; On occasion.

Total Burden Hours: 471.

Ruth Brown,
Departmental Information Collection Clearance Officer.

[FR Doc. 2022-08507 Filed 4-20-22; 8:45 am]

BILLING CODE 3410-34-P